DEPARTMENT OF ENERGY

Federal Energy Regulatory Commission

Combined Notice of Filings #2

June 10, 2005.

Take notice that the Commission received the following electric rate filings

Docket Numbers: ER00-3767-004.

Applicants: Praxair, Inc.

Description: Praxair, Inc. submits an amendment to its 5/2/05 filing, consisting of Substitute Original Sheet No. 1 to its FERC Electric Tariff, Revised Volume No.1.

Filed Date: 06/02/2005.

Accession Number: 20050609-0108.

Comment Date: 5 p.m. eastern time on Thursday, June 17, 2005.

Docket Numbers: ER05-17-004.

Applicants: Trans-Elect NTD Path 15, LLC.

Description: Trans-Elect NTD Path 15, LLC submits affidavits of EIF Path 15 Funding LLC, et al., to satisfy the compliance conditions of the Commission's rehearing order issued May 4, 2005 in Docket No. ER05-17-001.

Filed Date: 06/02/2005.

Accession Number: 20050609-0104.

Comment Date: 5 p.m. eastern time on Thursday, June 23, 2005.

Docket Numbers: ER05-841-001.

Applicants: Praxair Plainfield, Inc.

Description: Praxair Plainfield, Inc. submits an amendment to the 4/19/05 filing of an amended market-based rate tariff under ER05-841.

Filed Date: 06/02/2005.

Accession Number: 20050609-0097.

Comment Date: 5 p.m. eastern time on Thursday, June 17, 2005.

Docket Numbers: ER05-887-001, ER05-889-001, ER05-893-001, ER05-894-001, ER05-895-001, ER05-896-001, ER05-897-001, ER05-898-001, ER05-899-001.

Applicants: Armstrong Energy Limited Partnership, LLLP, Dominion Energy Kewaunee, Inc., Dominion Retail, Inc., Dresden Energy, LLC, Elwood Energy, LLC, Fairless Energy, LLC Pleasants Energy, LLC State Line Energy, L.L.C., Troy Energy, LLC.

Description: Armstrong Energy Limited Partnership, LLLP et al submits an amendment to their 4/28/05 filings—revised tariff sheets for each applicant.

Filed Date: 06/02/2005.

Accession Number: 20050609-0106

Comment Date: 5 p.m. eastern time on Thursday, June 23, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlinSupport@ferc.gov. or call (866) 208-3676 (toll free). For TTY, call (202) 502-8659.

Linda Mitry,
Deputy Secretary.

[FR Doc. E5-3129 Filed 6-16-05; 8:45 am]

BILLING CODE 6717-01-P